DEPARTMENT OF COMMERCE

International Trade Administration

[A-549-821]

Polyethylene Retail Carrier Bags From Thailand: Final Results of Antidumping Duty Administrative Review

AGENCY: Import Administration, International Trade Administration, Department of Commerce.

SUMMARY: On September 2, 2010, the Department of Commerce published the preliminary results of the 2008/2009 administrative review of the antidumping duty order on polyethylene retail carrier bags from Thailand. We gave interested parties an opportunity to comment on the preliminary results. Based on our analysis of the comments received and an examination of our calculations, we have made certain changes for the final results. The final weighted-average dumping margins for the respondents are listed below in the “Final Results of Review” section of this notice.

DATES: Effective Date: March 8, 2011.

FOR FURTHER INFORMATION CONTACT: Thomas Schauer or Richard Rimlinger, AD/CVD Operations, Office 5, Import Administration, International Trade Administration, U.S. Department of Commerce, 14th Street and Constitution Avenue, NW., Washington, DC 20230; telephone (202) 482-0410 or (202) 482-4477, respectively.

SUPPLEMENTARY INFORMATION:

Background

On September 2, 2010, the Department of Commerce (the Department) published Polyethylene Retail Carrier Bags From Thailand: Preliminary Results of Antidumping Duty Administrative Review, 75 FR 53953 (September 2, 2010) (Preliminary Results), in the Federal Register. The administrative review covers C.P. Packaging Co., Ltd. (C.P. Packaging), Giant Pack Co., Ltd. (Giant), Sahachit Watana Plastics Ind. Co., Ltd. (Sahachit Watana), Thai Plastic Bags Industries Co., Ltd. (TPBI), and Thantawan Industry Public Co., Ltd. (Thantawan).¹ The Department has determined previously that TPBI, Apec Film Ltd., and Winner's Pack Co., Ltd., comprise the Thai Plastic Bags Group. See Notice of Final Determination of Sales at Less Than Fair Value: Polyethylene Retail Carrier Bags From Thailand, 69 FR 34122, 34123 (June 18, 2004). The period of review is August 1, 2008, through July 31, 2009.

¹ We had originally selected Landblue (Thailand) Co., Ltd. (Landblue), and TPBI for individual examination in this review (see Memorandum to Laurie Parkhill dated October 15, 2009), but subsequently we rescinded the review in part with respect to Landblue. See Polyethylene Retail Carrier Bags From Thailand: Rescission of Antidumping Duty Administrative Review in Part, 75 FR 34699 (June 18, 2010).

We invited parties to comment on the Preliminary Results. On December 10, 2010, we received case briefs from the Polyethylene Retail Carrier Bag Committee and its individual members, Hilex Poly Co., LLC, and Superbag Corporation (collectively, the petitioners), and from TPBI. On December 15, 2010, we received rebuttal briefs from the petitioners and from TPBI. We did not hold a hearing as the only request for a hearing was withdrawn. See the petitioners' letter dated December 20, 2010.

We have conducted this review in accordance with section 751(a) of the Tariff Act of 1930, as amended (the Act).

Scope of the Order

The merchandise subject to the antidumping duty order is polyethylene retail carrier bags (PRCBs) which may be referred to as t-shirt sacks, merchandise bags, grocery bags, or checkout bags. The subject merchandise is defined as non-sealable sacks and bags with handles (including drawstrings), without zippers or integral extruded closures, with or without gussets, with or without printing, of polyethylene film having a thickness no greater than 0.035 inch (0.889 mm) and no less than 0.00035 inch (0.00889 mm), and with no length or width shorter than 6 inches (15.24 cm) or longer than 40 inches (101.6 cm). The depth of the bag may be shorter than 6 inches but not longer than 40 inches (101.6 cm).

PRCBs are typically provided without any consumer packaging and free of charge by retail establishments, e.g., grocery, drug, convenience, department, specialty retail, discount stores, and restaurants, to their customers to package and carry their purchased products. The scope of the order excludes (1) polyethylene bags that are not printed with logos or store names and that are closeable with drawstrings made of polyethylene film and (2) polyethylene bags that are packed in consumer packaging with printing that refers to specific end-uses other than packaging and carrying merchandise from retail establishments, e.g., garbage bags, lawn bags, trash-can liners.

Imports of the subject merchandise are currently classifiable under statistical category 3923.21.0085 of the Harmonized Tariff Schedule of the United States (HTSUS). Furthermore, although the HTSUS subheading is provided for convenience and customs purposes, the written description of the scope of the order is dispositive.

Analysis of Comments Received

All issues raised in the case briefs by parties to this review are addressed in the Issues and Decision Memorandum for the Antidumping Duty Administrative Review of Polyethylene Retail Carrier Bags From Thailand for the Period of Review August 31, 2008, through July 31, 2009 (Decision Memo), which is dated concurrently with this notice and hereby adopted by this notice. A list of the issues which parties have raised and to which we have responded is in the Decision Memo and attached to this notice as an Appendix. The Decision Memo, which is a public document, is on file in the Department's Central Records Unit (CRU) of the main Commerce building, Room 7046, and is accessible on the Web at http://ia.ita.doc.gov/frn/index.html. The paper copy and electronic version of the Decision Memo are identical in content.

Non-Selected Companies

As discussed in the Preliminary Results, 75 FR at 53954, we preliminarily determined to apply the weighted-average margin of TPBI, the sole remaining company as selected for individual examination, for the following companies: C.P. Packaging, Giant, Sahachit Watana, and Thantawan. We received no comments on the use of TPBI's rate. Therefore, for these final results of review, we have applied the rate we have calculated for TPBI to the companies named above which were not selected for individual examination.

Changes Since the Preliminary Results

We made the following changes to our calculation of TPBI's margin for the final results: (1) We revised our calculations of the cost of production and constructed value for TPBI to include exempted import duties, (2) we revised the general and administrative expenses of TPBI to include certain expenses, (3) we corrected a clerical error whereby we inadvertently used only 14 of the 15 physical characteristics in matching models across markets, and (4) we corrected a clerical error by using the correct quantity variable. See the memorandum to the file entitled “Polyethylene Retail Carrier Bags From Thailand—Thai Plastic Bags Industries Co., Ltd., Final Results Analysis Memorandum” dated concurrently with this notice for details regarding these changes.

Sales Below Cost in the Home Market

As explained in the Preliminary Results, 75 FR at 53954, in accordance with section 773(b) of the Act, the Department tested whether TPBI made sales at prices below the cost of production. For these final results of review and based on the statutory criteria concerning below-cost sales, the Department disregarded home-market sales by TPBI that failed the cost-of-production test.

Final Results of Review

As a result of our review, we determine that the following percentage weighted-average dumping margins exist for PRCBs from Thailand for the period August 1, 2008, through July 31, 2009:

Producer/Exporter | Percent margin
TPBI | 20.15
C.P. Packaging Co., Ltd. | 20.15
Giant Pack Co., Ltd. | 20.15
Sahachit Watana Plastics Ind. Co., Ltd. | 20.15
Thantawan Industry Public Co., Ltd. | 20.15

Assessment Rates

The Department shall determine, and U.S. Customs and Border Protection (CBP) shall assess, antidumping duties on all appropriate entries.

We calculated importer/customer-specific duty-assessment amounts with respect to export-price sales by TPBI in the following manner. We divided the total dumping margins (calculated as the difference between normal value and the export price) for each importer or customer by the total number of kilograms TPBI sold to that importer or customer. We will direct CBP to assess the resulting per-kilogram dollar amount against each kilogram of merchandise on each of that importer's or customer's entries during the period of review. See 19 CFR 351.212(b)(1).

The Department clarified its “automatic assessment” regulation on May 6, 2003. This clarification will apply to entries of subject merchandise during the period of review produced by TPBI for which it did not know that the merchandise it sold to an intermediary (e.g., a reseller, trading company, or exporter) was destined for the United States. In such instances, we will instruct CBP to liquidate unreviewed entries at the all-others rate if there is no rate for the intermediary(ies) involved in the transaction. See Antidumping and Countervailing Duty Proceedings: Assessment of Antidumping Duties, 68 FR 23954 (May 6, 2003).

For the companies which were not selected for individual examination, we will instruct CBP to apply the rates listed above to all entries of subject merchandise produced and/or exported by such firms.

We intend to issue liquidation instructions to CBP 15 days after publication of these final results of review.

Cash-Deposit Requirements

The following deposit requirements will be effective upon publication of this notice of final results of administrative review for all shipments of the subject merchandise entered, or withdrawn from warehouse, for consumption on or after the date of publication, consistent with section 751(a)(1) of the Act: (1) The cash-deposit rates for the reviewed companies will be the rates shown above; (2) for previously investigated or reviewed companies not listed above, the cash-deposit rate will continue to be the company-specific rate published for the most recent period; (3) if the exporter is not a firm covered in this or a previous review or the original less-than-fair-value (LTFV) investigation but the manufacturer is, the cash-deposit rate will be the rate established for the most recent period for the manufacturer of the merchandise; (4) the cash-deposit rate for all other manufacturers or exporters will be 4.69 percent, the all-others rate from the amended final determination of the LTFV investigation as revised as a result of the Section 129 determination published on August 12, 2010. See Notice of Implementation of Determination Under Section 129 of the Uruguay Round Agreements Act and Partial Revocation of the Antidumping Duty Order on Polyethylene Retail Carrier Bags From Thailand, 75 FR 48940 (August 12, 2010).

These deposit requirements shall remain in effect until further notice.

Notification Requirements

This notice serves as a reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties. See Id.

This notice also serves as a reminder to parties subject to administrative protective order (APO) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing these results in accordance with sections 751(a)(1) and 777(i) of the Act and 19 CFR 351.221(b)(5).

Dated: March 1, 2011.
Ronald K. Lorentzen,
Deputy Assistant Secretary for Import Administration.

Appendix

1. Conversion-Cost Reallocation.

2. Affiliated-Party Inputs.

3. Blue Corner Rebates.

4. Zeroing.

5. Duties in Cost of Production and Constructed Value.

6. General and Administrative Expenses.

7. Ministerial Errors and Other Issues.

[FR Doc. 2011-5267 Filed 3-7-11; 8:45 am]

BILLING CODE 3510-DS-P